DEPARTMENT OF ENERGY

Federal Energy Regulatory Commission

[Project No. 14499-000]

Hamilton Street Hydro, LLC; Notice of Preliminary Permit Application Accepted for Filing and Soliciting Comments, Motions To Intervene, and Competing Applications

On February 19, 2013, Hamilton Street Hydro, LLC, filed an application for a preliminary permit, pursuant to section 4(f) of the Federal Power Act (FPA), proposing to study the feasibility of hydropower at the existing Chain Dam located on the Lehigh River in Northampton County, Pennsylvania. The sole purpose of a preliminary permit, if issued, is to grant the permit holder priority to file a license application during the permit term. A preliminary permit does not authorize the permit holder to perform any land-disturbing activities or otherwise enter upon lands or waters owned by others without the owners' express permission.

The proposed Chain Dam Hydroelectric Project would consist of the following: (1) An existing 20-foot-high concrete gravity dam with a 690-foot-long spillway; (2) an existing impoundment having a surface area of 300 acres and a storage capacity of 1,197 acre-feet at an elevation of 190 feet mean sea level (msl); (3) a new 70-foot-long by 40-foot-wide by 35-foot-high powerhouse with three new identical turbine-generator units with an installed capacity of 1,368 kilowatts each, and three identical 20-foot-wide, 10-foot-high, 5-foot-long direct intakes; (4) a new tailrace consisting of a 300-foot-long, 5-foot-high concrete wing wall; (5) a new 4,160-kilovolt transmission line extending 245 feet from the powerhouse to an existing distribution line; and (6) appurtenant facilities. The proposed project would have an annual generation of 18.3 gigawatt-hours.

Applicant Contact: Mark Boumansour, Hamilton Street Hydro, LLC, 1401 Walnut Street, Suite 301, Boulder, CO 80302; phone: (303) 440-3378.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14499-000) in the docket number field to access the document. For assistance, contact FERC Online Support.

Dated: April 11, 2013.
Kimberly D. Bose,
Secretary.

[FR Doc. 2013-09012 Filed 4-16-13; 8:45 am]

BILLING CODE 6717-01-P